DEPARTMENT OF HEALTH AND HUMAN SERVICES

National Institutes of Health

National Cancer Institute; Amended Notice of Meeting

Notice is hereby given of a change in the meeting of the National Cancer Institute Special Emphasis Panel, October 21, 2013, 11:00 a.m. to October 21, 2013, 3:00 p.m., National Cancer Institute Shady Grove, West Tower, 9609 Medical Center Drive, Room 3W034, Rockville, MD, 20850 which was published in the Federal Register on August 16, 2013, 78FR50065.

The meeting notice is amended to change the title from “Awards for Research on Imaging and Biomarkers for Early Cancer Detection (U01)” to “Awards for Research on Imaging and Biomarkers for Early Cancer Detection (P50, U01)”. The meeting is closed to the public.

Dated: August 28, 2013.
Melanie J. Gray,
Program Analyst, Office of Federal Advisory Committee Policy.

[FR Doc. 2013-21395 Filed 9-3-13; 8:45 am]

BILLING CODE 4140-01-P